DEPARTMENT OF JUSTICE

Notice of Lodging of a Consent Decree Under the Comprehensive Environmental Response, Compensation and Liability Act

Under 28 CFR 50.7, notice is hereby given that on July 29, 2004, a proposed Consent Decree in United States v. Mallinckrodt, Inc. et al., Civil Action No. 4:02CV1488 was lodged with the United States District Court for the Eastern District of Missouri.

In this action the United States sought response costs relating to response actions by the Environmental Protection Agency (“EPA”) at the Great Lakes Container Corporation Superfund Site in St. Louis, Missouri. The Site is a former drum reclamation facility contaminated primarily with lead and polychlorinated biphenyls (“PCBs”). The settling defendant, Indopco, Inc., f/k/a National Starch and Chemical Corporation (“National Starch”), sent drums to the facility and thereby contributed small or unknown amounts of lead to the Site. In the proposed consent decree, the settling defendant has agreed to reimburse EPA $45,713.12 in past response costs. In return, the United States covenants not to sue National Starch for its liability related to lead contamination at the Site.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Mallinckrodt, Inc. et al. Consent Decree D.J. Ref. 90-11-3-07280.

The Consent Decree may be examined at the Office of the United States Attorney, Eastern District of Missouri, 111 10th Street, St. Louis, MO 63102 and at U.S. EPA Region VII, U.S. EPA, Region VII, 901 N. 5th Street, Kansas City, KS 66101. (913) 551-7559. During the public comment period, the Consent Decree may also be examined on the following Department of Justice website, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $4.75 (25 cents per page reproduction cost) payable to the U.S. Treasury.

Catherine R. McCabe,
Deputy Chief, Environmental Enforcement Section, Environment and Natural Resources Division.

[FR Doc. 04-18398 Filed 8-10-04; 8:45 am]

BILLING CODE 4410-15-M